SOCIAL SECURITY ADMINISTRATION

Notice of Teleconference

AGENCY: Social Security Administration (SSA).

ACTION: Notice of teleconference.

DATES: December 12, 2001, 1 PM—4 PM (ET)

ADDRESSES: Ticket to Work and Work Incentives Advisory Panel Office, Social Security Administration, 400 Virginia Avenue, SW, Suite 700, Washington, DC 20024.

Teleconference: Wednesday, December 12, 2001, 1 PM—3 PM (ET); Ticket to Work and Work Incentives Advisory Panel Conference Call; Call-in number: 1-800-857-2846; Pass code: 12211; Leader/Host: Sarah Mitchell Wiggins.

SUPPLEMENTARY INFORMATION: Type of meeting: This teleconference meeting is open to the public. The interested public is invited to participate by coming to the address listed above or calling into the teleconference. Public testimony will not be taken.

Purpose: In accordance with section 10(a)(2) of the Federal Advisory Committee Act, the Social Security Administration (SSA) announces this teleconference meeting of the Ticket to Work and Work Incentives Improvement Act (TWWIIA) Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Agenda: The Panel will deliberate on the implementation of TWWIIA, conduct committee activities and administrative business. The agenda for this meeting will be posted on the Internet at http://www.ssa.gov/work/panel/ one week prior to the teleconference or can be received in advance electronically or by fax upon request. Records are being kept of all Panel proceedings and will be available for public inspection by appointment at the Panel office.

Contact Information: Anyone requiring information regarding the Panel should contact the TWWIIA Panel staff by mail addressed to Ticket to Work and Work Incentives Advisory Panel Staff, Social Security Administration, 400 Virginia Avenue, SW., Suite 700, Washington, DC, 20024, telephone contact with Kristen Breland at (202) 358-6430, fax at (202) 358-6440 or e-mail to TWWIIAPanel@ssa.gov

Dated: November 16, 2001.
Deborah M. Morrison,
Designated Federal Officer.

[FR Doc. 01-29285 Filed 11-21-01; 8:45 am]

BILLING CODE 4191-02-U